DEPARTMENT OF AGRICULTURE

Animal and Plant Health Inspection Service

7 CFR Part 319

[Docket No. APHIS-2005-0106]

RIN 0579-AB80

Revision of Fruits and Vegetables Import Regulations; Correction

AGENCY: Animal and Plant Health Inspection Service, USDA.

ACTION: Final rule; correction.

SUMMARY: We are correcting an error in the amendatory instructions in our final rule that revised and reorganized the regulations pertaining to the importation of fruits and vegetables. The final rule was published in the Federal Register on July 18, 2007 (72 FR 39482-39528, Docket No. APHIS 2005-0106).

EFFECTIVE DATE: August 17, 2007.

FOR FURTHER INFORMATION CONTACT: Ms. Janel Barsi, Regulatory Analyst, Regulatory Analysis and Development, PPD, APHIS, 4700 River Road Unit 118, Riverdale, MD 20737; (301) 734-8682.

SUPPLEMENTARY INFORMATION: In a final rule published in the Federal Register on July 18, 2007 (72 FR 39482-39528, Docket No. APHIS-2005-0106) and effective on August 17, 2007, we revised and reorganized our regulations pertaining to the importation of fruits and vegetables.

In an amendatory instruction in the final rule, we directed the revision of “Subpart—Fruits and Vegetables, §§ 319.56 through 319.56-8.” This was incorrect. We should have simply referred to “Subpart—Fruits and Vegetables.” This document corrects that error.

Correction

PART 319—[CORRECTED]

In FR Doc. E7-13708, published on July 18, 2007 (72 FR 39482-39528), make the following correction: On page 39501, second column, instruction 13, remove the words “,§§ 319.56 through 319.56-8,”.

Done in Washington, DC, this 25th day of July 2007.
Kevin Shea,
Acting Administrator, Animal and Plant Health Inspection Service.

[FR Doc. E7-14723 Filed 7-30-07; 8:45 am]

BILLING CODE 3410-34-P